DEPARTMENT OF THE INTERIOR

Bureau of Land Management

[ID-080-1220-PA]

AGENCY: Bureau of Land Management, Upper Columbia-Salmon Clearwater District, Coeur d'Alene Field Office, Idaho.

ACTION: Notice of restriction order number ID-086-27 for the Wallace Forest Conservation Area.

SUMMARY: By order, the following restrictions apply to the Wallace Forest Conservation Area, described as all public land located in T50N, R2W, Sec 31, T50N, R3W, Sec 35, T49N, R2W, Sec 6 and those portions of T49N, R3W, Sec 1 north of Lake Coeur d'Alene:

(1) Camping by any person or group of persons is prohibited except at the log landing at the terminus of the Landing Road.

(2) Camping as allowed by restriction number one above is limited to a maximum of two nights or 48 hours within any 28-day period. The two night limit my be reached through separate visits or continuous occupation. After the second night of occupation, campers must move outside of a 25-mile radius of the previous location.

(3) No person may leave personal property or supplies unattended for a period of more than 12 hours.

(4) Cutting of personal use firewood is prohibited.

(5) Use of motor vehicles on other than existing country roads is prohibited.

(6) Possession of a loaded firearm is prohibited, except that:

A. Firearms may be legally possessed within a motor vehicle in accordance with the Idaho State Code.

B. Waterfowl hunters may transport unloaded shotguns by the most direct route from either the Yellowstone Trail or the Landing Road for the purpose of hunting waterfowl below the high water mark of Lake Coeur d'Alene within Blue Creek Bay.

The authority for establishing these restrictions is Title 43 Code of Federal Regulations 8364.1 and 8341.2.

These restrictions become effective immediately and shall remain in effect until revoked and/or replaced with supplemental rules.

This Order includes lands previously described under Order ID-060-14, ID-060-19 and ID-080-21; these orders are hereby rescinded.

Definitions

Camping is defined as the erecting of a tent or shelter of natural or synthetic material, preparing a sleeping bag or other bedding material for use, or parking a motor vehicle, motor home or trailer for the apparent purpose of overnight occupancy during any part of the night period from 10 p.m. to 6 a.m.

Firearms are defined as pistols, rifles, shotguns or any implement capable of firing a projectile with the use of compressed gas or gunpowder.

The Log Landing is defined as the southern end of the Landing Road south of the last unnamed road blocked with a concrete jersey barrier.

These restrictions do not apply to:

(1) Any Federal, State or local law enforcement officer or member of an organized rescue or fire fighting force while engaged in the performance of an official duty.

(2) Any Bureau of Land Management employee, agent, contractor or cooperator while engaged in the performance of an official duty.

(3) Any person or group expressly authorized by an Authorized Officer to use or occupy the subject public land through the issuance of a special use permit or other use authorization.

These restrictions are necessary to:

(1) Preclude any individual or group from camping at one location for an extended period, thereby depriving others an opportunity to use the location for recreational purposes.

(2) Protect public land from habitat degradation due to illegal firewood cutting and soil erosion due to off-road vehicle use.

(3) To protect property and families of adjacent homeowners.

Violation of this order is punishable by a fine not to exceed $1,000 and/or imprisonment not to exceed 12 months.

FOR FURTHER INFORMATION CONTACT: Eric Thomson, Coeur d'Alene Field Manager, Bureau of Land Management, 1808 N. Third St., Coeur d'Alene, ID 83814.

Dated: December 7, 2000.
Ted Graf,
Acting District Manager.

[FR Doc. 00-31906 Filed 12-13-00; 8:45 am]

BILLING CODE 4310-66-M